DEPARTMENT OF JUSTICE

Debtor Audit Standards

AGENCY: Executive Office for United States Trustees, Justice.

ACTION: Notice.

SUMMARY: This notice sets forth the standards that will be utilized to determine the accuracy, veracity, and completeness of petitions, schedules, and other information that a debtor is required to provide under sections 521 and 1322 of title 11, United States Code, and, if applicable, section 111 of such title, in cases filed under chapter 7 or 13 of such title in which the debtor is an individual.

ADDRESSES: Comments on the standards may be submitted electronically via e-mail to UST.DebtorAudits.Help@usdoj.gov, or by postal mail at Executive Office for United States Trustees, Debtor Audit Team, 20 Massachusetts Ave, 8TH Floor, Washington, DC 20530. To ensure proper handling, please reference EOUST Debtor Audit Standards on your correspondence. Comments received are public records.

FOR FURTHER INFORMATION CONTACT: Mark A. Redmiles, Chief, Civil Enforcement Unit, Executive Office for United States Trustees, 20 Massachusetts Ave, 8th Floor, Washington, DC 20530.

SUPPLEMENTARY INFORMATION: The authority for these standards is located at 28 U.S.C. 586(f)(1), and section 603(a) of the Bankruptcy Abuse Prevention and Consumer Protection Act of 2005 (enacted April 20, 2005), Public Law 109-8, 119 Stat. 37.

Dated: September 26, 2006.
Lynn Bryant,
Department Clearance Officer, U.S. Department of Justice.

Debtor Audit Standards

Debtor Audit Standard No. 1

The debtor audit engagement shall be performed by individuals having adequate technical training and proficiency for performing attest engagements.

Debtor Audit Standard No. 2

The debtor audit engagement shall be performed by individuals having adequate knowledge of bankruptcy petitions, schedules, and statements; the Bankruptcy Code; and the Federal Rules of Bankruptcy Procedure.

Debtor Audit Standard No. 3

In all matters relating to the debtor audit, an independence in mental attitude shall be maintained by the individuals performing the engagement.

Debtor Audit Standard No. 4

Due professional care shall be exercised in the planning and performance of the engagement.

Debtor Audit Standard No. 5

The work shall be adequately planned and assistants, if any, are to be properly supervised.

Debtor Audit Standard No. 6

Sufficient evidence must be obtained to provide a reasonable basis for the conclusion expressed in the report filed with the court.

Debtor Audit Standard No. 7

The report shall identify that the subject matter of the debtor audit is the petition, schedules, and other information as originally filed by the debtor in the bankruptcy case and state that the debtor audit was conducted in accordance with the Debtor Audit Standards and the procedures established by the United States Trustee Program.

Debtor Audit Standard No. 8

The report shall clearly and conspicuously state the conclusion as to the presence or absence of material misstatements in income, expenses, or assets, in the petition, schedules, and statements originally filed by the debtor in the bankruptcy case.

Debtor Audit Standard No. 9

The report shall state that it is intended solely for the information and use of the United States Trustee and other parties in interest to the bankruptcy case and that it is not intended to be and should not be used by anyone other than these specified parties; noting however, that since the report is a matter of public record, its distribution is not limited.

[FR Doc. E6-16129 Filed 9-29-06; 8:45 am]

BILLING CODE 4410-40-P